DEPARTMENT OF THE INTERIOR

Bureau of Indian Affairs

Grant Program To Build Tribal Energy Development Capacity

AGENCY: Bureau of Indian Affairs, Interior.

ACTION: Solicitation of Proposals.

SUMMARY: The Secretary of the Interior (Secretary), through the Office of Indian Energy and Economic Development (IEED), is soliciting grant proposals from Federally-recognized Indian tribes for projects to build tribal capacity for energy resource development under the Department of the Interior's (DOI) Tribal Energy Development Capacity (TEDC) grant program. Under the Energy Policy Act of 2005, 25 U.S.C. 3502 (Act), Congress appropriates funds on a year-to-year basis to DOI for grants of funds to Indian tribes for use in assessing, developing, and sustaining the managerial and technical capacity needed to develop energy resources on Indian land and properly accounting for resulting energy resource production and revenues. We will use a competitive evaluation process based on criteria stated in the SUPPLEMENTARY INFORMATION section of this notice to select projects for funding awards.

DATES: Submit grant proposals August 29, 2011. Grant proposals must be postmarked by this date or they may not be considered.

ADDRESSES: Mail or hand-carry grant proposals to the Department of the Interior, Office of Indian Energy & Economic Development, Attention: Ashley Stockdale, 1951 Constitution Avenue, NW., MS 20-SIB, Washington, DC 20245, or e-mail to Ashley Stockdale at Ashley.Stockdale@bia.gov.

FOR FURTHER INFORMATION CONTACT: If you have questions about the TEDC program, or have technical questions about the tribal energy resource capacity you wish to develop, please contact David B. Johnson at the Office of Indian Energy and Economic Development, 1951 Constitution Avenue, NW., MS 20-SIB, Washington, DC 20245, telephone 202-208-3026, fax 202-208-4564, e-mail DavidB.Johnson@bia.gov.

SUPPLEMENTARY INFORMATION:

A. Background

The IEED administers the TEDC grant program for the benefit of Federally-recognized Indian tribes that wish to build capacity to develop conventional or renewable energy resources on tribal lands. The TEDC grant program helps such tribes in assessing, developing or sustaining the managerial and technical capacity needed to develop energy resources on Indian land and to properly account for resulting energy production and revenues, as provided for in the Act, Title V, Section 503.

Title V, Section 503 of the Act also amended Title XXVI (Indian Energy) of the Energy Policy Act of 1992 to provide for Tribal Energy Resource Agreements (TERAs). The TERAs are agreements between Federally-recognized Indian tribes and the Secretary that allow the tribe, at its discretion, to enter into leases, business agreements, and rights-of-way for energy resource development on tribal lands without further review and approval by the Secretary. The Act and the implementing regulations (25 CFR Part 224) provide that the Secretary must determine that a tribe has the capacity to regulate the development of its energy resource(s) before approving a TERA. The TEDC grants are, therefore, particularly useful to tribes that may wish to pursue a TERA, since the funds are used to help fulfill one of the key requirements for TERA approval—demonstrating capacity to perform the administrative and technical functions included in a TERA. Tribes that are not considering entering into a TERA may also benefit from a TEDC grant for energy resource development on Indian land under other options available to tribes, such as Indian Mineral Development Agreements.

The information collection requirements contained in this notice have been reviewed and approved by the Office of Management and Budget (OMB) under the Paperwork Reduction Act, 44 U.S.C. 3504(h). The OMB control number is 1076-0177. The authorization expires on July 31, 2014. An agency may not conduct or sponsor, and you are not required to respond to, any information collection that does not display a currently valid OMB Control Number.

B. General Requirements for TEDC Grant Proposals

1. The TEDC grant proposals must be submitted to IEED in digital format and postmarked by the date in the DATES section.

2. Proposals should be presented succinctly, yet in enough detail to allow the TEDC grant evaluation team to quickly and thoroughly understand the purpose, scope and objectives of the proposal.

3. Projects proposed under the TEDC grant program must be capable of being completed within one year of a grant award.

4. The TEDC grant projects may not duplicate previous or ongoing energy resource development capacity building projects.

5. The TEDC grant projects may not include any activities that duplicate efforts of other projects for which federal funds have previously been awarded.

6. Tribes currently under Bureau of Indian Affairs sanction resulting from non-compliance with the Single Audit Act may be ineligible for consideration of a grant award.

7. The TEDC grant proposals will be deemed incomplete, or, at a minimum, points will be deducted, if all mandatory components are not included.

C. Purposes of TEDC Grants

The TEDC grants are intended to help Indian tribes meet the following goals as they relate to assessing, developing, and/or sustaining tribal energy resource development capacity for energy resource(s) the tribe intends to or is developing on Indian land:

1. Determine the current level of the tribe's scientific, technical, administrative, or financial management capacity for identified energy resource development activities;

2. Determine which scientific, technical, administrative, or financial management capacities for tribal energy resource development need enhancement;

3. Determine what process(es) and/or procedure(s) may be used to eliminate capacity gaps or sustain the continued development of energy resource development capacity (including training); and

4. Determine how the process(es) and/or procedure(s) identified in (c) will be implemented.

D. Activities Eligible for TEDC Grant Funding

Examples of activities eligible for TEDC grants include, but are not limited to, assessing or determining how to develop or sustain the tribe's capacity for:

• Reviewing proposals for leases, business agreements, and rights-of-way;

• Negotiating and reviewing leases, business agreements, or rights-of-way;

• Evaluating the environmental effects of energy resource development projects a tribe may enter into, including those related to cultural resources;

• Monitoring the compliance of a third party with the terms and conditions of any leases, business agreements, and rights of-way a tribe may enter into;

• Establishing and/or managing energy development-related departments or administrative divisions within the tribe;

• Providing for energy development-related technical, scientific, and/or engineering expertise within the tribe;

• Developing or enhancing tribal codes, regulations, or ordinances related to regulating energy resource development; and

• Accounting for energy resource production and revenues.

E. Activities Ineligible for TEDC Grant Funding

• Feasibility studies and energy resource assessments;

• Purchase of resource assessment data;

• Research and development of speculative or unproven technologies;

• Purchase or lease of equipment for the development of energy resources;

• Payment of fees or procurement of any services associated with energy assessment or exploration or development activity;

• Payment of tribal salaries for employees not directly involved in conducting the assessment project and payment of salaries beyond the one-year project;

• Establishment or operation of a tribal office or purchasing office equipment not specific to the capacity building project;

• Indirect costs and overhead as defined by the Federal Acquisition Regulations (FAR);

• Purchase or lease of project equipment such as computers, vehicles, field gear, etc;

• Legal fees;

• Contract negotiation fees; and

• Any other activities not authorized by the tribal resolution or by the approved proposal.

F. TEDC Grant Proposal Mandatory Components

Component 1—Tribal Resolution

Provide a current tribal resolution or other formal, official action of the tribe's governing entity, such as a tribal council or tribal business committee or executive committee, as established under tribal or Federal law and recognized by the Secretary. This document should be signed by a duly authorized tribal official representing the tribe's governing body.

Component 2—TEDC Grant Project Description

(a) Tribal point of contact, including name, title, mailing address, telephone and fax numbers, and e-mail address;

(b) Name and title of responsible party(ies) for technical execution and administration of the project;

(c) Amount of funding requested for the project;

(d) Description of the tribe's identified energy resource(s);

(e) Scope of work describing the proposed project, including: capacity areas related to the identified energy resource on which the proposal's assessment(s) will focus and the approach and justification of the approach to be used in assessing, developing or sustaining the tribe's capacity to manage energy resource development activities and to determine next steps to be taken to eliminate any identified capacity gaps;

(f) Objectives of the proposal describing how the proposed project will contribute to the tribe's capacity building (in assessing, developing or sustaining particular identified areas to be included in the project);

(g) Method of measurement of meeting stated objectives of the proposed project, including data collection and analysis;

(h) Description of deliverable products the proposed project will generate;

(i) Completion date for proposed project, date for interim progress report, and date for final report (see Section I—Post-Award Requirements below);

(j) Resumes of key personnel (tribal employees, consultants, subcontractors) who will work on the proposed project, including information on expertise; and

(k) Description of the tribe's current staff and/or tribal financial resources the tribe plans to apply to performance or completion of the objectives in the tribe's TEDC grant proposal.

Component 3—Existing and Prior Energy Resource Development Experience

(a) Description and examples of the tribe's experience with energy resource development activities, including any previous or current capacity assessment and energy resource assessment, feasibility studies, exploration for or development of specific energy resource(s); and

(b) Description of the tribe's experience and level of existing capacity to manage and regulate energy resource development in areas including, but not limited to:

(1) Land and lease management (including evaluation, negotiation, and enforcement of terms);

(2) Technical, scientific, and engineering evaluation;

(3) Financial and revenue management;

(4) Production accounting;

(5) Environmental review, monitoring, compliance, and enforcement;

(6) Regulatory monitoring (Federal, state, and tribal environmental and safety regulations); and

(7) Tribal environmental code, regulation, or ordinance development or enhancement.

(c) List of all previous or on-going energy resource development capacity building projects for which the tribe has received Federal funds, the source or the funds (e.g., Department of Energy, US Environmental Protection Agency, or DOI), the year(s) for which funds were awarded, and whether such projects were completed and completion dates.

Component 4—Planned Energy Resource Development

(a) Description of the tribe's planned energy resource development activities including capacity assessment, energy resource assessment, feasibility studies, exploration for or development of specific energy resource(s); and

(b) Description of the tribe's plans for managing energy resource development and growth (including plans to develop or enhance tribal offices or independent tribal business entities related to energy resource development, if any).

Component 5—Detailed Budget Estimate

(1) Provide a detailed, line-by-line budget, including all projected and anticipated expenditures under the TEDC grant proposal, covering the amount of funding requested;

(2) Provide in the budget a breakdown for the proposal's line items that involve several components or contain numerous sub-functions to include, at a minimum:

(a) Itemize costs for all contracted personnel and consultants, their respective positions and time (staff hour) allocations for the proposed functions of the project or part(s) of the project;

(b) Document professional qualifications necessary to perform the work for tribal personnel to be funded under Pub. L. 93-638 and attach position descriptions;

(c) Specify how consultants (if any) are to be used and include documentation that clearly identifies the qualifications of any proposed consultants;

(d) Itemize consultant fees and include a line item breakdown of costs associated with each consultant activity. If a consultant is to be hired for a fixed fee, itemize the consultant's expenses as part of the project budget;

(e) Itemize travel estimates by airfare, vehicle rental, training and conference fees (if any), and lodging and per diem, based on the current Federal Government per diem schedule;

(f) Itemize data collection and analysis costs in sufficient detail for the IEED TEDC grant evaluation team to evaluate the proposed expenses; and

(g) Include other expenses such as computer and other equipment rental, report generation, drafting, and advertising costs for a proposal.

G. Evaluation and Ranking Criteria

The IEED TEDC grant evaluation team will review and evaluate grant proposals on a 100 point system based on the following factors (Mandatory Component 1, the tribal resolution, will not be evaluated):

(1) Mandatory Component 2—TEDC Grant Project Description—30 Points

The IEED TEDC grant evaluation team will use the grant project description objectives, measurement methods, deliverables, and commitment of staff and/or resources to the project as part of its evaluation of the project proposal to determine how likely the project is to result in quantifiable results to the tribe in terms of capacity building to benefit the tribe's future energy resource development.

(2) Mandatory Component 3—Existing and Prior Energy Resource Development Experience—20 Points

The IEED TEDC grant evaluation team will use the tribe's existing and prior energy resource development experience as part of its evaluation of the project proposal to determine the tribe's current level of capacity. Prior or current energy resource development will not, by itself, result in fewer or more assigned points. It is an accurate description of the tribe's baseline capacity that we seek.

(3) Mandatory Component 4—Planned Energy Resource Development—25 Points

The IEED TEDC grant evaluation team will use the tribe's planned energy resource development as part of its evaluation of the project proposal to determine the tribe's potential for proceeding with planned energy resource development, whether or not it has prior or current energy resource development experience.

(4) Mandatory Component 5—Detailed Budget Estimate—25 Points

The IEED TEDC grant evaluation team will use the budget proposal as part of its evaluation of the project to determine whether the budget is reasonable and can produce the results outlined in the proposal under Mandatory Component 2. A TEDC grant proposal budget that includes sound budget projections directly related to the project objectives will receive a more favorable ranking than those proposals that fail to provide appropriate budget projections or that fail to reasonably relate budget projections to the project objectives.

H. Award Notification Process

1. The TEDC grant evaluation team will forward the ranked proposals to the Director of IEED for approval.

2. After the Director's approval, the Director will submit the proposals to the Assistant Secretary-Indian Affairs for concurrence.

3. The Director will notify in writing tribes and tribal energy development organizations of selection or non-selection of proposals for awards.

I. Post-Award Requirements

Tribes that are awarded grants for TEDC projects must adhere to the following requirements:

1. Expend TEDC grant funds only on approved project functions. Tribes are subject to forfeiture of any remaining funds in the project year as well as sanctions against award of any future year TEDC grant funding for expenditures which are not approved;

2. Prepare and submit an interim report (which may consist of a summary of events, accomplishments, problems, and/or results) to the IEED project coordinator by the date the tribe states in its proposal in mandatory component 2;

3. Complete the TEDC project within one year of the award date;

4. Prepare and submit a final report, including all deliverable products generated by the TEDC project within two weeks of completion of the TEDC project or the anniversary of the award date, whichever comes first; and

5. Provide all reports and deliverable products and data generated by the TEDC project to IEED by providing one digital form and two printed copies to IEED at: TEDC Project Coordinator, IEED, U.S. Department of the Interior, 1951 Constitution Avenue, NW., South Interior Building—Room 20, Washington, DC 20245.

J. Submission of Proposal

Submit proposals in digital form to the following electronic address: Ashley.Stockdale@bia.gov. Save files with filenames that clearly identify the file being submitted. File extensions must clearly indicate the software application used for preparation of the documents, (i.e., wpd, doc, pdf). Documents requiring an original signature, such as cover letters, tribal resolutions, or other letters of tribal authorization, must also be submitted in paper form to: ATTN: Tribal Energy Development Capacity Proposal, TEDC Project Coordinator, U.S. Department of the Interior, 1951 Constitution Avenue, NW., South Interior Building—Room 20, Washington, DC 20245.

Complete proposals may be faxed to IEED at 202-208-4564 no later than the date listed in the DATES section of this notice; however an original signature copy, including all tribal resolutions or other letters of tribal authorization must be received in IEED's office within 5 working days of the deadline noted above.

Dated: June 13, 2011.
Donald E. Laverdure,
Principal Deputy Assistant Secretary—Indian Affairs.

[FR Doc. 2011-17612 Filed 7-12-11; 8:45 am]

BILLING CODE 4310-4M-P